FEDERAL MARITIME COMMISSION

Ocean Transportation Intermediary License Revocations and Terminations

The Commission gives notice that the following Ocean Transportation Intermediary licenses have been revoked or terminated for the reason indicated pursuant to section 19 of the Shipping Act of 1984 (46 U.S.C. 40101) effective on the date shown.

License No.: 003460F.

Name: Pacific Removal Services, Inc. dba World International Forwarding Company.

Address: 2311 Boswell Road, Suite 5, Chula Vista, CA 91914.

Date Surrendered: May 22, 2014.

Reason: Voluntary surrender of license.

License No.: 3750F.

Name: Sprintrans Inc.

Address: 631 Walnut Avenue, Arcadia, CA 91007.

Date Surrendered: May 22, 2014.

Reason: Voluntary surrender of license.

License No.: 013172N.

Name: Yung Hoon Kim dba Conex International.

Address: 20695 South Western Avenue, Suite 136, Torrance, CA 90501.

Date Revoked: May 25, 2014.

Reason: Failed to maintain a valid bond.

License No.: 015589N.

Name: Euro-Caribe Shipping Lines, Inc.

Address: 1800 SE. 10th Avenue, Suite 435, Fort Lauderdale, FL 33316.

Date Revoked: May 21, 2014.

Reason: Failed to maintain a valid bond.

License No.: 018740N.

Name: AM World Logistics, Inc.

Address: 224 Buffalo Avenue, Freeport, NY 11520.

Date Revoked: May 23, 2014.

Reason: Failed to maintain a valid bond.

License No.: 020282N.

Name: A C H Freight Forwarding Inc.

Address: 40-10-A Main Street, 2nd Floor, Flushing, NY 11355.

Date Surrendered: May 27, 2014.

Reason: Voluntary surrender of license.

License No.: 020331N.

Name: Ocean Freight Wholesalers Incorporated.

Address: 3401 NW 82nd Avenue, Suite 106, Miami, FL 33122.

Date Revoked: May 18, 2014.

Reason: Failed to maintain a valid bond.

License No.: 020545F.

Name: Denizabel Shipping, Inc.

Address: 19558 NW 50th Court, Miami Gardens, FL 33055.

Date Revoked: May 17, 2014.

Reason: Failed to maintain a valid bond.

License No.: 020552N.

Name: RCB Logistics Corp.

Address: 1316 Bound Brook Road, Middlesex, NJ 08846.

Date Revoked: May 14, 2014.

Reason: Failed to maintain a valid bond.

License No.: 020599F.

Name: Aeromundo Express, N.Y. Corporation.

Address: 500 West 175th Street, Level 1, New York, NY 10033.

Date Revoked: April 4, 2014.

Reason: Failed to maintain a valid bond.

License No.: 021926NF.

Name: Mega Supply Chain Solutions, Inc.

Address: 9449 8th Street, Rancho Cucamonga, CA 91730.

Date Revoked: May 18, 2014.

Reason: Failed to maintain valid bonds.

License No.: 022187F.

Name: Carolina Shipping Company, L.P. dba Cutlass Logistics Ltd.

Address: 1064 Gardner Road, Suite 312, Charleston, SC 29407.

Date Surrendered: April 14, 2014.

Reason: Voluntary surrender of license.

License No.: 023520N.

Name: Green World Cargo, LLC.

Address: 150-30 132nd Avenue, Suite 302, Jamaica, NY 11434.

Date Revoked: May 16, 2014.

Reason: Failed to maintain a valid bond.

License No.: 023599N.

Name: Ashimiyu Alowonle dba Classique Companies.

Address: 4355 Irving Avenue North, Minneapolis, MN 55412.

Date Revoked: May 21, 2014.

Reason: Failed to maintain a valid bond.

License No.: 023996NF.

Name: Welcome Freight Forwarding, Inc.

Address: 8424 NW 56th Street, Miami, FL 33166.

Date Surrendered: May 1, 2014.

Reason: Voluntary surrender of license.

License No.: 024298NF.

Name: CMK Freight Forwarders, LLC.

Address: 2374 Heritage Lakes Drive, Lakeland, FL 33803.

Date Surrendered: May 27, 2014.

Reason: Voluntary surrender of license.

Sandra L. Kusumoto,
Director, Bureau of Certification and Licensing.

[FR Doc. 2014-13578 Filed 6-10-14; 8:45 am]

BILLING CODE 6730-01-P